DEPARTMENT OF LABOR

Employment and Training Administration

[TA-W-55,227]

Robert Bosch Corporation, Automotive Technology—Chassis Division, Including Leased Workers at Olsten Staffing, Defender Services, FOOD Service, Inc., IH Services, Securitas, Sumter, SC; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on August 2, 2004, applicable to workers of Robert Bosch Corporation, Automotive Technology—Chassis Division, including leased workers at Olsten Staffing, Sumter, South Carolina. The notice was published in the Federal Register on August 20, 2004 (69 FR 51716).

At the request of the company, the Department reviewed the certification for workers of the subject firm. New information shows that leased workers of Defender Services, Food Service, Inc., IH Services and Securitas were employed at Robert Bosch Corporation, Automotive Technology—Chassis Division, at the Sumter, South Carolina location of the subject firm.

Based on these findings, the Department is amending this certification to include leased workers of Defender Services, Food Service, Inc., IH Services and Securitas working at Robert Bosch Corporation, Automotive Technology—Chassis Division, Sumter, South Carolina.

The intent of the Department's certification is to include all workers employed at Robert Bosch Corporation, Automotive Technology—Chassis Division, who were adversely affected by a shift in production to Mexico.

The amended notice applicable to TA-W-55,227 is hereby issued as follows:

All workers of Robert Bosch Corporation, Automotive Technology—Chassis Division, Sumter, South Carolina, including leased workers of Olsten Staff, Defender Services, Food Service, Inc., IH Services and Securitas working at Robert Bosch Corporation, Automotive Technology—Chassis Division, Sumter, South Carolina, who became totally or partially separated from employment on or after July 2, 2003, through August 2, 2006, are eligible to apply for adjustment assistance under Section 223 of the Trade Act of 1974, and are also eligible to apply for alternative trade adjustment assistance under Section 246 of the Trade Act of 1974.

Signed at Washington, DC, this 4th day of March 2005.
Elliott S. Kushner,
Certifying Officer, Division of Trade Adjustment Assistance.

[FR Doc. E5-1245 Filed 3-21-05; 8:45 am]

BILLING CODE 4510-30-P